DEPARTMENT OF THE INTERIOR

National Park Service

Notice of Intent to Repatriate a Cultural Item: U.S. Department of Agriculture, Forest Service, Ottawa National Forest, Ironwood, MI

AGENCY: National Park Service, Interior.

ACTION: Notice.

Notice is here given in accordance with the Native American Graves Protection and Repatriation Act (NAGPRA), 25 U.S.C. 3005, of the intent to repatriate a cultural item in the possession of the U.S. Department of Agriculture, Forest Service, Ottawa National Forest that meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one cultural item is a white pine dugout canoe.

The canoe was discovered in 1953 by a private landowner at the bottom of Thousand Island Lake, Watersmeet, MI. The Ottawa National Forest acquired the canoe in the late 1960s from Jay Shifra, a resident of Watersmeet, and curated the canoe at the Ottawa National Forest Visitors Center since the early 1970s. The canoe measures 32 1/2 feet in length and 31 inches wide at the center with a height of 21 inches and has a carrying capacity of approximately 15-20 people. A small tree was growing out of the canoe when it was discovered, which would suggest that the canoe had been submerged in the lake for a considerable period of time. The canoe probably dates to the Late Woodland/Early Contact period (circa A.D. 1500-1800).

Thousand Island Lake lies within the traditional territory of the Ojibwe people of the Lac Vieux Desert Band of Lake Superior Chippewa Indians, Michigan. During consultation with tribal communities, evidence was presented demonstrating that the cultural item is considered to have historical, traditional, or cultural importance central to the Lac Vieux Desert Band of Lake Superior Chippewa Indians, Michigan.

In March 2004, the Lac Vieux Desert Band of Lake Superior Chippewa Indians, Michigan submitted a request to the Ottawa National Forest for repatriation of the canoe.

Officials of the Ottawa National Forest have determined that, pursuant to 25 U.S.C. 3001 (3)(D), the cultural item has ongoing historical, traditional, or cultural importance central to the Native American group or culture itself, rather than property owned by an individual. Officials of the Ottawa National Forest also have determined that, pursuant to 25 U.S.C. 3001 (2), there is a relationship of shared group identity that can be reasonably traced between the object of cultural patrimony and the Lac Vieux Desert Band of Lake Superior Chippewa Indians, Michigan.

Representatives of any other Indian tribe that believes itself to be culturally affiliated with the object of cultural patrimony should contact Loreen J. Lomax, Heritage Resources Program Manager, Ottawa National Forest Supervisor's Office, E6248 US-2, Ironwood, MI 49938, telephone (906) 932-1330, extension 313, before October 14, 2004. Repatriation of the object of cultural patrimony to the Lac Vieux Desert Band of Lake Superior Chippewa Indians, Michigan may proceed after that date if no additional claimants come forward.

The Ottawa National Forest is responsible for notifying the Bay Mills Indian Community, Michigan; Keweenaw Bay Indian Community, Michigan; Lac du Flambeau Band of Lake Superior Chippewa Indians of the Lac du Flambeau Reservation of Wisconsin; and Lac Vieux Desert Band of Lake Superior Chippewa Indians, Michigan that this notice has been published.

Dated: July 22, 2004.
John Robbins,
Assistant Director, Cultural Resources.

[FR Doc. 04-20649 Filed 9-13-04; 8:45 am]

BILLING CODE 4312-50-S